DEPARTMENT OF ENERGY

[GDO Docket No. EA-171-F]

Application for Renewal of Authorization To Export Electric Energy; Powerex Corp.

AGENCY: Grid Deployment Office, Department of Energy.

ACTION: Notice of application.

SUMMARY: Powerex Corp. (the Applicant or Powerex) has applied for renewal of authorization to transmit electric energy from the United States to Canada pursuant to the Federal Power Act.

DATES: Comments, protests, or motions to intervene must be submitted on or before January 21, 2025.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On November 18, 2024, Powerex filed an application for the renewal of authorization to transmit electric energy from the United States to Canada for a term of five years. App. at 1.

According to the Application, Powerex is a power marketer “organized under the Business Corporations Act of British Columbia, with its principal place of business at 666 Burrard Street, Suite 1300, Vancouver, British Columbia, Canada V6C 2X8.” Id. at 2, 4. Powerex represents that it is “the wholly owned marketing subsidiary of the British Columbia Hydro and Power Authority[.]” Id. at 2. The Applicant “sells power at wholesale from a portfolio” of various resources acquired from sellers within both the U.S. and Canada. Id. Further, Powerex states that it has market-based rate authority granted by the Federal Energy Regulatory Commission (FERC). Id. at 2 n.3.

The Applicant states it “neither owns generation resources nor has a franchised service area or native load obligation[,]” nor does it have a “transmission `system' of its own, such that Powerex's exports of power could have no impact on broader system reliability or resilience.” App. at 4. The Applicant states that “[t]he electric energy Powerex will export, either on a firm or interruptible basis, will be surplus to the system of the third-party generator from whom such power will be purchased.” Id. at 5. Thus, the Applicant asserts that “[b]ecause Powerex is a power marketer with no native load obligations, and because the power it purchases will be surplus to the needs of its third-party suppliers, Powerex's exports meet the first statutory criterion of FPA section 202(e).” Id.

Further, Powerex states it “will schedule its exports from the U.S. in compliance with all applicable reliability criteria, standards, and other guidance from the North American Electricity Reliability Corporation (“NERC”) (or any successor organization) and regional reliability councils, as applied by domestic transmission providers.” App. at 4. The Applicant further affirms that it “will also separately obtain all necessary authorization, both regulatory and contractual” for the proposed electricity exports. Id. at 6. Therefore, the Applicant states that “the requested exports will not impede or tend to impede the coordination in the public interest of facilities subject to the jurisdiction of FERC.” Id.

The existing international transmission facilities to be utilized by the Applicant have been previously authorized by Presidential permits issued pursuant to Executive Order 10485, as amended, and are appropriate for open access transmission by third parties. See App. at Attachment 1.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Powerex's Application should be clearly marked with GDO Docket No. EA-171-F. Additional copies are to be provided directly to Connor Curson, Powerex Corp., 666 Burrard Street, Suite 1300, Vancouver, British Columbia, Canada V6C 2X8, connor.curson@powerex.com; Tyler S. Johnson, Bracewell LLP, 701 Fifth Avenue, Suite 3420, Seattle, WA 98104, tyler.johnson@bracewell.com; Joshua Robichaud, Bracewell LLP, 701 Fifth Avenue, Suite 3420, Seattle, WA 98104, josh.robichaud@bracewell.com; and Gary Bridgens, Bracewell LLP, 701 Fifth Avenue, Suite 3420, Seattle, WA 98104, gary.bridgens@bracewell.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on December 13, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 16, 2024.
Treena V. Garrett,
Federal Register Liaison Officer, U.S. Department of Energy.

[FR Doc. 2024-30222 Filed 12-18-24; 8:45 am]

BILLING CODE 6450-01-P